DEPARTMENT OF AGRICULTURE

Submission for OMB Review; Comment Request

March 5, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: On-Farm Renewable Energy Production Survey (OREP).

OMB Control Number: 0535-NEW.

Summary of Collection: Under the general authority of Title 7 U.S.C., Sec. 2204(a) the National Agricultural Statistics Service (NASS) is authorized to prepare and issue State and National estimates which include crop and livestock production, economic and environmental inputs, whole farm characteristics and operator demographics covered by the Census of Agriculture and its follow-on surveys. The Energy Production Survey is authorized by Public Law 110-246, Sec. 12023, Title X, the Horticulture and Organic Agriculture of the Food, Conservation, and Energy Act of 2008. The On-Farm Renewable Energy Production (OREP) survey is one of the follow-on surveys to the 2007 Census of Agriculture Survey.

Need and Use of the Information: The OREP survey will use, as a sampling universe, every respondent on the 2007 Census of Agriculture who reported energy generation on the farm. This energy survey will provide a comprehensive inventory of farm generated energy practices with detailed data relating to category or type of energy produced (wind, solar, and manure/methane digester), installation cost, year installed, if any energy was sold onto a power grid, and the average payment received per kilowatt hour or total amount of utility savings from reduced demand.

Description of Respondents: Farmers, ranchers, and farm managers self identified as producers of energy, through the 2007 Census of Agriculture.

Number of Respondents: 16,500.

Frequency of Responses: Reporting: One time.

Total Burden Hours: 8,447.

Charlene Parker,
Departmental Information Collection Clearance Officer.

[FR Doc. 2010-5113 Filed 3-9-10; 8:45 am]

BILLING CODE 3410-20-P